NUCLEAR REGULATORY COMMISSION

[NRC-2018-0023]

Qualification and Training of Personnel for Nuclear Power Plants

AGENCY: Nuclear Regulatory Commission.

ACTION: Regulatory guide; issuance.

SUMMARY: The U.S. Nuclear Regulatory Commission (NRC) is issuing Revision 4 to Regulatory Guide (RG) 1.8, “Qualification and Training of Personnel for Nuclear Power Plants.” This RG describes methods acceptable to the NRC staff for complying with those portions of the Commission's regulations associated with the selection, qualifications, and training for nuclear power plant personnel. Revision 4 updates the RG with additional experience gained since Revision 3 was issued in 2000 by endorsing American National Standards Institute/American Nuclear Society (ANSI/ANS)-3.1-2014, “Selection, Qualification, and Training of Personnel for Nuclear Power Plants,” with exceptions and clarifications.

DATES: Revision 4 to RG 1.8 is available on July 8, 2019.

ADDRESSES: Please refer to Docket ID NRC-2018-0023 when contacting the NRC about the availability of information regarding this document. You may obtain publicly-available information related to this document using any of the following methods:

• Federal Rulemaking Website: Go to https://www.regulations.gov/ and search for Docket ID NRC-2018-0023. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Revision 4 to RG 1.8 and the regulatory analysis may be found in ADAMS under Accession Nos. ML19101A395 and ML16091A271, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Brian Tindell, Office of Nuclear Reactor Regulation, telephone: 301-415-2026, email: Brian.Tindell@nrc.gov and Steve Burton, Office of Nuclear Regulatory Research, telephone: 301-415-0038, email: Stephen.Burton@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 4 of RG 1.8 was issued with a temporary identification of Draft Regulatory Guide, DG-1329. This revision updates the RG with additional experience gained through inspections since Revision 3 was issued in 2000. It endorses American National Standards Institute/American Nuclear Society (ANSI/ANS)-3.1-2014, “Selection, Qualification, and Training of Personnel for Nuclear Power Plants,” with certain exceptions and clarifications that are listed in the Staff Regulatory Guidance section of the RG.

II. Additional Information

The NRC published a notice of the availability of DG-1329 in the Federal Register on February 12, 2018 (83 FR 6053), for a 60-day public comment period. The public comment period closed on April 13, 2018. Public comments on DG-1329 and the staff responses to the public comments are available under ADAMS Accession No. ML19101A396.

III. Congressional Review Act

This RG is a rule as defined in the Congressional Review Act (5 U.S.C. 801-808). However, the U.S. Office of Management and Budget has not found it to be a major rule as defined in the Congressional Review Act.

IV. Backfitting and Issue Finality

This RG describes methods acceptable to the staff of the NRC for complying with those portions of the Commission's regulations associated with the selection, qualifications, and training for nuclear power plant personnel. Issuance of this RG does not constitute backfitting as defined in section 50.109 of title 10 of the Code of Federal Regulations (10 CFR) (the Backfit Rule) and would not otherwise be inconsistent with the issue finality provisions in 10 CFR part 52. As discussed in the “Implementation” section of the RG, the NRC has no intention to impose this RG on holders of operating licenses or combined licenses.

This RG may be applied to applications for operating licenses, combined licenses, early site permits, and certified design rules docketed by the NRC as of the date of issuance of the RG, as well as future applications submitted after the issuance of the RG. Such action would not constitute backfitting as defined in the Backfit Rule or otherwise be inconsistent with the issue finality provisions in 10 CFR part 52, inasmuch as such applicants or potential applicants are not within the scope of entities protected by the Backfit Rule or the issue finality provisions in 10 CFR part 52.

Dated at Rockville, Maryland, this 2nd day of July 2019.
For the Nuclear Regulatory Commission.
Harriet Karagiannis,
Acting Chief, Regulatory Guidance and Generic Issues Branch, Division of Engineering, Office of Nuclear Regulatory Research.

[FR Doc. 2019-14441 Filed 7-5-19; 8:45 am]

BILLING CODE 7590-01-P